INTERNATIONAL TRADE COMMISSION

[Investigation Nos. 701-TA-660 and 731-TA-1543-1544 (Final)]

Utility Scale Wind Towers From India and Malaysia

Determinations

On the basis of the record ¹ developed in the subject investigations, the United States International Trade Commission (“Commission”) determines, pursuant to the Tariff Act of 1930 (“the Act”), that an industry in the United States is materially injured by reason of imports of utility scale wind towers (“wind towers”) from India and Malaysia, provided for in subheadings 7308.20.00 and 8502.31.00 of the Harmonized Tariff Schedule of the United States, that have been found by the U.S. Department of Commerce (“Commerce”) to be sold in the United States at less than fair value (“LTFV”) and to be subsidized by the government of India.²

¹ The record is defined in § 207.2(f) of the Commission's Rules of Practice and Procedure (19 CFR 207.2(f)).

² 86 FR 56890, October 13, 2021; 86 56894, October 13, 2021; and 86 FR 56896, October 13, 2021.

Background

The Commission instituted antidumping and countervailing duty investigations effective September 30, 2020, following receipt of petitions filed with the Commission and Commerce by the Wind Tower Trade Coalition (Arcosa Wind Towers Inc., Dallas, Texas; and Broadwind Towers, Inc., Manitowoc, Wisconsin). The Commission established a general schedule for the conduct of the final phase of its investigations on wind towers from India, Malaysia, and Spain following preliminary determinations by Commerce that imports of wind towers were subsidized by the governments of India and Malaysia. Notice of the scheduling of the final phase of the Commission's investigations and of a public hearing to be held in connection therewith was given by posting copies of the notice in the Office of the Secretary, U.S. International Trade Commission, Washington, DC, and by publishing the notice in the Federal Register of April 16, 2021 (86 FR 20197). Counsel for the Wind Tower Trade Coalition withdrew its previously filed request to appear at the hearing, after no other parties submitted a request to appear, and indicated a willingness to submit written responses to any Commission questions in lieu of a hearing. Consequently, since no party to the proceeding requested a hearing, the Commission canceled its hearing in connection with this proceeding (86 FR 31730, June 9, 2021). Parties to this proceeding responded to written questions posed by the Commission in their posthearing briefs.

The investigation schedules became staggered when Commerce did not align its countervailing duty investigation (86 FR 15887, March 25, 2021) with its antidumping duty investigation regarding imports from Malaysia, its antidumping duty investigation regarding imports from Spain, or its countervailing and antidumping duty investigations regarding imports from India. On July 26, 2021, the Commission issued a final affirmative determination in its countervailing duty investigation of wind towers from Malaysia (86 FR 41087, July 30, 2021). On August 9, 2021, the Commission issued a final affirmative determination in its antidumping duty investigation of wind towers from Spain (86 FR 44748, August 13, 2021). Following notification of final determinations by Commerce that imports of wind towers from India were being subsidized within the meaning of section 703(b) of the Act (19 U.S.C. 1671b(b)) and that imports of wind towers from India and Malaysia were being sold at LTFV within the meaning of section 735(a) of the Act (19 U.S.C. 1673d(a)), notice of the supplemental scheduling of the final phase of the Commission's countervailing duty investigation regarding India and antidumping duty investigations regarding India and Malaysia was given by posting copies of the notice in the Office of the Secretary, U.S. International Trade Commission, Washington, DC, and by publishing the notice in the Federal Register of October 20, 2021 (86 FR 58098).

The Commission made these determinations pursuant to section 735(b) of the Act (19 U.S.C. 1673d(b)). It completed and filed its determinations in these investigations on November 29, 2021. The views of the Commission are contained in USITC Publication 5247 (November 2021), entitled Utility Scale Wind Towers from India and Malaysia: Investigation Nos. 701-TA-660 and 731-TA-1543-1544 (Final).

By order of the Commission.
Issued: November 29, 2021.
William Bishop,
Supervisory Hearings and Information Officer.

[FR Doc. 2021-26235 Filed 12-2-21; 8:45 am]

BILLING CODE 7020-02-P